ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, July 27-29, 2015 at the times and location listed below.

DATES: The schedule of events is as follows:

Monday, July 27, 2015

10:00-12:30 p.m. Ad Hoc Committee Meetings: Closed to Public

Tuesday, July 28, 2015

9:30-10:00 a.m. Budget Committee

10:00-11:00 Technical Programs Committee

11:00-Noon Planning and Evaluation Committee

1:30-2:30 p.m. Ad Hoc Committee on Design Guidance

2:30-4:00 Ad Hoc Committee on Frontier Issues: Real Time Text Demonstration

Wednesday, July 29, 2015

9:30-11:30 a.m. Rail Vehicles Access Advisory Committee Report Presentation

1:30-3:00 p.m. Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on Wednesday, July 29, 2015 from 1:30 to 3:00 p.m., the Access Board will consider the following agenda items:

• Approval of the draft March 11, 2015 meeting minutes (vote)

• Ad Hoc Committee Reports: Information and Communications Technologies; Self-Service Transaction Machines; Public Rights-of-Way and Shared Use Paths; Transportation Vehicles; Passenger Vessels; Medical Diagnostic Equipment; Frontier Issues; and Design Guidance

• Budget Committee

• Technical Programs Committee

• Planning and Evaluation Committee

• Election Assistance Commission Report

• Guest Speakers: Maria Town, Associate Director, White House Office of Public Engagement and Marilyn Golden, author of the NCD report, “Transportation Update: Where We've Gone and What We've Learned”

• Executive Director's Report

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/the-board/policies/fragrance-free-environment for more information).

You may view the Wednesday, July 29, 2015 meeting through a live webcast from 1:30 p.m. to 3:00 p.m. at: http://www.access-board.gov/webcast. Call-in information (listen only) and a communication access real-time translation (CART) Web streaming link for the presentation of the Rail Vehicles Access Advisory Committee report will be posted on the Access Board's Rail Vehicles Access Advisory Committee Web site page at www.access-board.gov/rvaac.

David M. Capozzi,
Executive Director.

[FR Doc. 2015-16801 Filed 7-8-15; 8:45 am]

BILLING CODE 8150-01-P